GENERAL SERVICES ADMINISTRATION

[OMB Control No. 3090-0200]

Submission for OMB Review; Comment Request Entitled Sealed Bidding

AGENCY: General Services Administration (GSA)

ACTION: Notice of a request for an extension to an existing OMB clearance.

SUMMARY: Under the provisions of the Paperwork Reduction Act of 1995 (44 U.S.C. Chapter 35), the General Services Administration (GSA) has submitted to the Office of Management and Budget (OMB) a request to review and approve an extension of a previously approved information collection requirement concerning Sealed Bidding. A request for public comments was published at 66 FR 38427, July 24, 2001. No comments were received.

DATES: Comments may be submitted on or before November 16, 2001.

FOR FURTHER INFORMATION CONTACT: Ralph DeStefano, Acquisition Policy Division, GSA (202) 501-1758.

ADDRESSES: Comments regarding this burden estimate or any other aspect of this collection of information, including suggestions for reducing this burden, should be submitted to: Edward Springer, GSA Desk Officer, OMB, Room 10236, NEOB, Washington, DC 20503, and a copy to Stephanie Morris, General services Administration 9MVP), 1800 F Street, NW., Room 405, Washington, DC 20405.

A. Purpose

The General Services Administration is requesting the Office of Management and Budget (OMB) to review and approve information collection, 3090-0200, concerning Sealed Bidding. The information requested regarding an offeror's monthly production capability is needed to make progressive awards to ensure coverage of stock items.

B. Annual Reporting Burden.

Respondents: 10.

Annual Responses: 10.

Average Hours Per Response: 5.

Burden Hours: 5.

On review the annual responses have decreased, but the time to compile the requested information requires more time, because item purchase has changed from wiping rags to fire pants.

Obtaining Copies of Proposals

A copy of this proposal may be obtained from the General Services Administration, Acquisition Policy Division (MVP), 1800 F Street, NW., Room 4035, Washington, DC 20405, or by telephoning (202) 501-4744, or by faxing your request to (202) 501-4067. Please cite OMB Control No. 3090-0200, Sealed Bidding, in all correspondence.

Dated: October 9, 2001.
David A. Drabkin,
Deputy Associate Administrator, Office of Acquisition Policy.

[FR Doc. 01-26005 Filed 10-16-01; 8:45 am]

BILLING CODE 6820-61-M